ENVIRONMENTAL PROTECTION AGENCY

[EPA-R07-OW-2020-0061; FRL-10005-74-Region 7]

Notice of Approval of the Primacy Revision Application for the Public Water Supply Supervision Program From the State of Missouri

AGENCY: Environmental Protection Agency (EPA).

ACTION: Notice of approval and solicitation of requests for a public hearing.

SUMMARY: The Environmental Protection Agency (EPA) is hereby giving notice that the state of Missouri is revising its approved Public Water Supply Supervision Program delegated to the Missouri Department of Natural Resources (MDNR). EPA has reviewed the application and intends to approve these program revisions.

DATES: This determination to approve the Missouri program revision is made pursuant to 40 CFR 142.12(d)(3). This determination shall become final on April 1, 2020, unless (1) a timely and appropriate request for a public hearing is received or (2) the Regional Administrator elects to hold a public hearing on his own motion. Any interested person, other than Federal Agencies, may request a public hearing.

A request for a public hearing must be submitted to the Regional Administrator at the address shown below by April 1, 2020. If a request for a public hearing is made within the requested thirty-day time frame, a public hearing will be held and a notice will be given in the Federal Register and a newspaper of general circulation. Frivolous or insubstantial requests for a hearing may be denied by the Regional Administrator. If no timely and appropriate request for a hearing is received, and the Regional Administrator does not elect to hold a hearing on his own motion, this determination will become final on April 1, 2020.

All interested parties may request a public hearing on the approval to the Regional Administrator at the EPA Region 7 address shown below.

ADDRESSES: Requests for public hearing shall be addressed to: Regional Administrator, Environmental Protection Agency, Region 7, 11201 Renner Boulevard, Lenexa, Kansas 66219.

FOR FURTHER INFORMATION CONTACT: Samantha Harden, Environmental Protection Agency, Region 7, Groundwater and Drinking Water Branch, (913) 551-7723, or by email at harden.samantha@epa.gov.

SUPPLEMENTARY INFORMATION: The EPA is hereby giving notice that the state of Missouri is revising its approved Public Water Supply Supervision Program. MDNR revised their program by incorporating the following EPA National Primary Drinking Water Regulations: Lead and Copper: Short-Term Regulatory Revisions and Clarifications (72 FR 57781, October 10, 2007) and Revised Total Coliform Rule (78 FR 10269, February 13, 2013). The EPA has determined that MDNR's program revisions are consistent with and no less stringent than Federal regulations. Therefore, EPA intends to approve these program revisions.

Public Hearing Requests

Any request for a public hearing shall include the following information: (1) Name, address and telephone number of the individual, organization or other entity requesting a hearing; (2) a brief statement of the requesting person's interest in the Regional Administrator's determination and a brief statement on information that the requesting person intends to submit at such hearing; (3) the signature of the individual making the request or, if the request is made on behalf of an organization or other entity, the signature of a responsible official of the organization or other entity. Requests for public hearing shall be addressed to: Regional Administrator, Environmental Protection Agency, Region 7, 11201 Renner Boulevard, Lenexa, Kansas 66219.

All documents relating to this determination are available for inspection between the hours of 9:00 a.m. and 3:00 p.m., Monday through Friday at the following offices: (1) Environmental Protection Agency, Region 7, Groundwater and Drinking Water Branch, Water Division, 11201 Renner Boulevard, Lenexa, Kansas 66219 and (2) the Missouri Department of Natural Resources, P.O. Box 176, Jefferson City, MO 65102.

Authority: Section 1413 of the Safe Drinking Water Act, as amended, and 40 CFR 142.10, 142.12(d) and 142.13.

Dated: February 25, 2020.
James Gulliford,
Regional Administrator, Region 7.

[FR Doc. 2020-04228 Filed 2-28-20; 8:45 am]

BILLING CODE 6560-50-P